DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northern Mariana Islands Commercial Bottomfish Fishery Permit.

OMB Control Number: 0648-0584.

Form Number(s): None.

Type of Request: Revision and extension of a currently approved information collection.

Number of Respondents: 30.

Average Hours per Response: 15 minutes.

Burden Hours: 8.

Needs and Uses: This request is for revision and extension of a currently approved information collection.

As part of a fishery ecosystem plan, developed by the Western Pacific Fishery Management Council under the authorization of the Magnuson-Stevens Fishery Conservation and Management Act, NMFS requires that owners of commercial fishing vessels in the bottomfish fishery in the Commonwealth of the Northern Mariana Islands (CNMI) obtain a federal bottomfish permit. If their vessels are over 40 ft. (12.2 m) long, they must also mark their vessels in compliance with federal identification requirements and carry and maintain a satellite-based vessel monitoring system (VMS). These requirements are set out in 50 CFR part 665, subpart D. This collection of information is needed for permit issuance, to identify actual or potential participants in the fishery, and aid in enforcement of regulations and area closures.

Affected Public: Business or other for-profit organizations.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 22, 2015.
Sarah Brabson,
NOAA PRA Clearance Officer.

[FR Doc. 2015-15642 Filed 6-25-15; 8:45 am]

BILLING CODE 3510-22-P